DEPARTMENT OF LABOR

Office of the Secretary

Agency Information Collection Activities, Comment Request; Solicitation of Nominations for the Iqbal Masih Award for the Elimination of Child Labor

ACTION: Notice.

SUMMARY: The Department of Labor (DOL) is soliciting comments concerning the proposed extension of Office of Management and Budget (OMB) approval for the Solicitation of Nominations for the Iqbal Masih Award for the Elimination of Child Labor information collection request (ICR), as part of continuing Departmental efforts to reduce paperwork and respondent burden in accordance with the Paperwork Reduction Act of 1995 (PRA) (44 U.S.C. 3501 et seq.).

DATES: Submit written comments on or before February 22, 2016.

ADDRESSES: Contact Michel Smyth by telephone at 202-693-4129 (this is not a toll-free number) or by email at DOL_PRA_PUBLIC@dol.gov to request additional information, including requesting a copy of this ICR. Submit comments regarding this ICR, including suggestions for reducing the burden, by sending an email to DOL_PRA_PUBLIC@dol.gov. Comments may also be sent to Michel Smyth, Departmental Clearance Officer, U.S. Department of Labor, Office of the Chief Information Officer, 200 Constitution Avenue NW., Room N-1301, Washington, DC 20210.

Authority: 44 U.S.C. 3506(c)(2)(A).

SUPPLEMENTARY INFORMATION: The DOL Iqbal Masih Award for the Elimination of Child Labor, presented by the Secretary of Labor, is intended to recognize exceptional efforts to reduce the worst forms of child labor. The Award was created in response to a Senate Committee mandate directing the Secretary of Labor to establish an annual non-monetary award recognizing extraordinary efforts by an individual, company, organization, or national government to reduce the worst forms of child labor. The DOL is proposing to extend this ICR to allow the public to nominate and provide critical information on proposed candidates for this award who have demonstrated extraordinary efforts to combat the worst forms of child labor.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. The DOL obtains OMB approval for this information collection under Control Number 1290-0007. The current approval is scheduled to expire on February 29, 2016; however, the DOL intends to seek continued approval for this collection of information for an additional three years.

The DOL, as part of its continuing effort to reduce paperwork and respondent burden, conducts a pre-clearance consultation program to provide the general public and Federal agencies an opportunity to comment on proposed and/or continuing collections of information before they are submitted to the OMB. This program helps to ensure requested data can be provided in the desired format, reporting burden (time and financial resources) is minimized, collection instruments are clearly understood, and the impact of collection requirements can be properly assessed. Interested parties are encouraged to provide comments to the individual listed in the ADDRESSES section above. Comments must be written to receive consideration, and they will be summarized and may be included in the request for OMB approval of the final ICR. The comments will become a matter of public record. To help ensure appropriate consideration, comments should mention OMB Control Number 1290-0007.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-Office of the Secretary.

Type of Review: Extension without change of a currently approved collection.

Title of Collection: Solicitation of Nominations for the Iqbal Masih Award for the Elimination of Child Labor.

OMB Control Number: 1290-0007.

Affected Public: Private Sector—businesses or other for profits and not-for-profit institutions.

Estimated Number of Respondents: 50.

Frequency: Once.

Total Estimated Annual Responses: 50.

Estimated Average Time per Response: 10 hours.

Estimated Total Annual Burden Hours: 500 hours.

Total Estimated Annual Other Cost Burden: $0.

Dated: December 18, 2015.
Michel Smyth,
Departmental Clearance Officer.

[FR Doc. 2015-32336 Filed 12-23-15; 8:45 am]

BILLING CODE 4510-28-P